DEPARTMENT OF HOMELAND SECURITY

Coast Guard

33 CFR Part 165

[CGD01-04-133]

RIN 1625-AB17

Regulated Navigation Area; Buzzards Bay, Massachusetts; Navigable Waterways Within the First Coast Guard District

AGENCY: Coast Guard, DHS.

ACTION: Final rule; correction.

SUMMARY: The Coast Guard is making a technical correction to a Final Rule published in the Federal Register on December 13, 2007. (72 FR 70780.) The Final Rule titled “Regulated Navigation Area; Buzzards Bay, Massachusetts; Navigable Waterways within the First Coast Guard District” contained an inaccurate amendatory instruction to revise an imprecise and potentially confusing cross references regarding the applicability of certain regulations implemented by the rule. The revised amendatory instruction provided in this correction is intended to implement the revision to Part 165 found in 72 FR 70780.

DATES: This correction is effective as of December 27, 2007.

ADDRESSES: Comments and material received from the public concerning this correction will be made part of the docket for the underlying rule and will be available for inspection and copying at the offices of Commander, Coast Guard Sector Southeastern New England, East Providence Office, 20 Risho Avenue, East Providence, RI 02914, between 8 a.m. and 3 p.m. Monday through Friday, except federal holidays.

FOR FURTHER INFORMATION CONTACT: Mr. Edward G. LeBlanc at Coast Guard Sector Southeastern New England, East Providence, RI, 401-435-2351.

SUPPLEMENTARY INFORMATION:

Background

On December 13, 2008, the Coast Guard published a Final Rule titled “Regulated Navigation Area; Buzzards Bay, Massachusetts; Navigable Waterways within the First Coast Guard District” to correct an existing Regulated Navigation Area (RNA) within the waters of the First Coast Guard District. (72 FR 70780). Specifically, the Final Rule corrected erroneous references to “Subpart B of this chapter” and “Subpart B of this part” in Part 161 and Part 165, respectively. The references should have instead referred to “Subpart B of Part 161” in the revisions of both Part 161 and Part 165. The correction to Part 161 has been made. However, the reference in Part 165 was not made due to an inaccurate amendatory instruction. The substantive requirements of the rule are not altered by this technical correction.

Need for Correction

The Final Rule published on December 13, 2007 amended Parts 161 and 165 of Title 33 of the Code of Regulations. (72 FR 70780.) As explained in the preamble, the Final Rule revised a previously published erroneous reference to “Subpart B of this chapter” and “Subpart B of this part” in Part 161 and Part 165, respectively, instead of referring to “Subpart B of Part 161” in the revisions of both Part 161 and Part 165. The amendatory instruction for the Part 165 correction erroneously directed the deletion of 33 CFR 165.100(d)(5)(iv)(A)-(B) instead of only correcting the introductory text of 33 CFR 165.100(d)(5)(iv). This Final Rule corrects amendatory instruction 4 to revise the introductory text of 33 CFR 165.100(d)(5)(iv) without deleting subparagraphs (A) and (B), which was the intent of the December 13, 2007 Final Rule.

List of Subjects in 33 CFR Part 165

Harbors, Marine safety, Navigation (water), Reporting and recordkeeping requirements, Security measures, and Waterways.

For the reasons discussed in the preamble, the Coast Guard amends 33 CFR part 165 as follows:

PART 165—WATERWAYS SAFETY; REGULATED NAVIGATION AREAS AND LIMITED ACCESS AREAS

In the December 13, 2007 Federal Register, page 70780, amendatory instruction 4 is corrected to read as follows:

“4. In § 165.100, revise (d)(5)(iv) introductory text to read as follows:”

Dated: December 17, 2007.
Steve Venckus,
Chief, Office of Regulations and Administrative Law, U.S. Coast Guard.

[FR Doc. E7-24978 Filed 12-26-07; 8:45 am]

BILLING CODE 4910-15-P